DEPARTMENT OF ENERGY

Update on Reimbursement for Costs of Remedial Action at Active Uranium and Thorium Processing Sites

AGENCY: Department of Energy.

ACTION: Notice of the Title X claims during fiscal year (FY) 2013.

SUMMARY: In light of fiscal uncertainties facing the Department of Energy (DOE) and the passing of the Consolidated and Further Continuing Appropriations Act, 2013 (Public Law 113-6), funds are not currently available for reimbursement for cleanup work performed by licensees at eligible uranium and thorium processing sites in accordance with Title X of the Energy Policy Act of 1992 (Public Law 102-486). However, licensees may submit their claims for cleanup work with the understanding that DOE is not able to perform audits on the claims or provide licensees with reimbursements unless sufficient funds become available. If licensees do not submit claims in FY 2013, they can do so the following year. In order to keep an accurate account of claims, DOE will continue to provide an annual status report or report letter on reimbursements to licensees of eligible uranium and thorium processing sites. If licensees submit claims in FY 2013, those licensees are not required to resubmit those same claims in later years.

DATES: If claims are submitted during FY 2013 for cleanup work, the closing date is October 1, 2013. All reimbursements are subject to the availability of funds from congressional appropriations.

ADDRESSES: Claims should be forwarded by certified or registered mail, return receipt requested, to U.S. Department of Energy, Office of Legacy Management, Attn: Tracy Plessinger, Title X Coordinator, 2597 Legacy Way, Grand Junction, Colorado 81503. Two copies of the claim should be included with each submission.

FOR FURTHER INFORMATION CONTACT: Contact Theresa Kliczewski at (202) 586-3301 of the U.S. Department of Energy, Office of Environmental Management, Office of Disposition Planning & Policy.

SUPPLEMENTARY INFORMATION: DOE published a final rule under 10 CFR Part 765 in the Federal Register on May 23, 1994, (59 FR 26714) to carry out the requirements of Title X of the Energy Policy Act of 1992 (sections 1001-1004 of Public Law 102-486, 42 U.S.C. 2296a et seq.) and to establish the procedures for eligible licensees to submit claims for reimbursement. DOE amended the final rule on June 3, 2003, (68 FR 32955) to adopt several technical and administrative amendments (e.g., statutory increases in the reimbursement ceilings). Title X requires DOE to reimburse eligible uranium and thorium licensees for certain costs of decontamination, decommissioning, reclamation, and other remedial action incurred by licensees at active uranium and thorium processing sites to remediate byproduct material generated as an incident of sales to the United States Government. To be reimbursable, costs of remedial action must be for work which is necessary to comply with applicable requirements of the Uranium Mill Tailings Radiation Control Act of 1978 (42 U.S.C. 7901 et seq.) or, where appropriate, with requirements established by a State pursuant to a discontinuance agreement under section 274 of the Atomic Energy Act of 1954 (42 U.S.C. 2021). Claims for reimbursement must be supported by reasonable documentation as determined by DOE in accordance with 10 CFR part 765. Funds for reimbursement will be provided from the Uranium Enrichment Decontamination and Decommissioning Fund established at the Department of Treasury pursuant to section 1801 of the Atomic Energy Act of 1954 (42 U.S.C. 2297g). Payment or obligation of funds shall be subject to the requirements of the Anti-Deficiency Act (31 U.S.C. 1341).

Authority: Section 1001-1004 of Pub. L. 102-486, 106 Stat. 2776 (42 U.S.C. 2296a et seq.).

Issued in Washington DC on April 4, 2013.
Mark Senderling,
Director, Office of Disposition Planning & Policy, Office of Environmental Management.

[FR Doc. 2013-08355 Filed 4-9-13; 8:45 am]

BILLING CODE 6450-01-P